FEDERAL MARITIME COMMISSION

Sunshine Act Meeting Notice

Time and Date: July 23, 2008—10 a.m.

Place: 800 North Capitol Street, NW., First Floor Hearing Room, Washington, DC.

Status: A portion of the meeting will be in Open Session and the remainder of the meeting will be in closed session.

Matters to be Considered:

Open Session

(1) Extension of time to issue initial decision in Docket No. 07-07—Embarque Puerto Plata, Corp., and Embarque Puerto Inc., dba Embarque Shipping, et al.—Possible Violations of Sections 8(a) and 19 of the Shipping Act of 1984 and the Commission's Regulations at 46 CFR Parts 515 and 520.

(2) Agency Report to the House and Senate Committees on Appropriations Regarding Sole Source Contracts.

(3) Letter to the House and Senate Committees on Appropriations Regarding the New Orleans Hire.

(4) 2008 Human Capital Survey—Authorization to Issue Advance Notice to Staff.

(5) Administrative Control of Funds C.O. 77—Delegated Authority to Make Payments and Re-delegating Authority to Director OFM.

Closed Session

(1) Export Cargo Issues.

(2) Docket No. 02-04—Anchor Shipping Co. v. Alianca Navegacao E Logistica Ltda.

(3) FMC Agreement No. 011741-012: Amendment to the U.S. Pacific Coast-Oceania Agreement.

(4) Internal Administrative Practices and Personnel Matters.

Contact Person for More Information: Karen V. Gregory, Assistant Secretary, (202) 523-5725.

Karen V. Gregory,
Assistant Secretary.

[FR Doc. 08-1450 Filed 7-16-08; 2:19 pm]

BILLING CODE 6730-01-P